SMALL BUSINESS ADMINISTRATION

[Disaster Declaration #11335]

Michigan Disaster Number MI-00013

AGENCY: U.S. Small Business Administration.

ACTION: Amendment 1.

SUMMARY: This is an amendment of the Presidential declaration of a major disaster for Public Assistance Only for the State of Michigan (FEMA-1777-DR), dated 07/14/2008.

Incident: Severe Storms, Tornadoes, and Flooding.

Incident Period: 06/06/2008 through 06/13/2008.

Effective Date: 08/27/2008.

Physical Loan Application Deadline Date: 09/12/2008.

Economic Injury (EIDL) Loan Application Deadline Date: 04/14/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Michigan, dated 07/14/2008, is hereby amended to include the following areas as adversely affected by the disaster.

Primary Counties: Saginaw.

Contiguous Counties (Economic Injury Loans Only):

Bay, Genesee, Gratiot, Midland, Tuscola.

All other information in the original declaration remains unchanged.

(Catalog of Federal Domestic Assistance Number 59002 and 59008)

Herbert L. Mitchell,
Associate Administrator for Disaster Assistance.

[FR Doc. E8-20834 Filed 9-8-08; 8:45 am]

BILLING CODE 8025-01-P